DEPARTMENT OF DEFENSE

Department of the Navy

Notice of Intent To Prepare an Environmental Impact Statement (EIS)/Overseas Environmental Impact Statement (OEIS) for a Proposal To Enhance Training, Testing, and Operational Capability Within the Hawaii Range Complex and To Announce Public Scoping Meetings

AGENCY: Department of the Navy, DoD.

ACTION: Notice.

SUMMARY: Pursuant to Section 102(2)(C) of the National Environmental Policy Act of 1969, as implemented by the Council on Environmental Quality regulations (40 CFR parts 1500-1508), and Executive Order 12114 (Environmental Effects Abroad of Major Federal Actions), the Department of the Navy (DoN) announces its intent to prepare an EIS/OEIS. This EIS/OEIS will evaluate the potential environmental effects of increasing usage and enhancing the capability of the Hawaii Range Complex to achieve and maintain Fleet readiness and to conduct current, emerging, and future training and research, development, test, and evaluation (RDT&E) operations. The EIS/OEIS will consider two action Alternatives to accomplish these objectives, in addition to the No Action Alternative.

The following will be invited to be cooperating agencies: Department of Energy, Missile Defense Agency, U.S. Army, U.S. Fish and Wildlife Service, and National Marine Fisheries Service.

DATES: Public scoping meetings will be held in Hawaii to receive oral and/or written comments on environmental concerns that should be addressed in the EIS/OEIS. The public scoping meetings will be held on:

1. Wednesday, September 13, 2006, 4 p.m.-8 p.m., Maui Arts and Cultural Center, One Cameron Way, Kahului, Maui, Hawaii.

2. Thursday, September 14, 2006, 4 p.m.-8 p.m., Disabled American Veterans Hall, 2685 North Nimitz Highway, Honolulu, Oahu, Hawaii.

3. Saturday, September 16, 2006, 4 p.m.-8 p.m., Hilo Hawaiian Hotel, 71 Banyan Drive, Hilo, Hawaii, Hawaii.

4. Monday, September 18, 2006, 4 p.m.-8 p.m., Kauai Civil Defense Agency, Suite 100, 3990 Kaana Street, Kauai, Lihue, Hawaii.

Each of the four scoping meetings will consist of an informal, open house session with information stations staffed by DoN representatives. Additional information concerning the meetings will be available on the EIS/OEIS Web page located at: http://www.govsupport.us/navynepahawaii.

FOR FURTHER INFORMATION CONTACT: Mr. Tom Clements, Pacific Missile Range Facility, P.O. Box 128, Kekaha, Kauai, Hawaii 96752-0128, telephone 1-866-767-3347.

SUPPLEMENTARY INFORMATION: The Hawaii Range Complex geographically encompasses offshore, nearshore, and onshore areas located on or around the major islands of the Hawaiian Island chain. The geographic scope of this EIS/OEIS (Study Area) includes the Hawaii Offshore Operation Areas, consisting of 170,000 square nautical miles of ocean, generally from 17 to 26 degrees north latitude and from 154 to 162 degrees west longitude, land areas used by the DoN within these Operation Areas, and the Pacific Missile Range Facility (PMRF) Temporary Operating Area, consisting of 2.1 million square nautical miles to the north and west of Kauai. These ranges and Operation Areas are used to conduct operations and training involving military hardware, personnel, tactics, munitions, explosives, and electronic combat systems. Several of the areas are also used for RDT&E, including missile defense testing.

The purpose of the Proposed Action is to: (1) Provide the Hawaii Range Complex with sufficient capabilities to support Fleet and DoD training, major exercises based on training requirements identified to support the U.S. Unified Commanders, and the development, testing, and evaluation of existing, upgraded, and newly developed DoD and other federal agency systems; (2) provide additional range capabilities and support facilities at the Hawaii Range Complex, to include the PMRF, to fully integrate range services in a modern, multi-threat, multi-dimensional environment, ensuring safe conduct and evaluation of training and RDT&E missions; and (3) fulfill DoN commitment to update analyses on marine mammal exposures to noise in the water.

The need for the Proposed Action is to: (1) Ensure a robust training, testing, and operational capability within the Hawaii Range Complex operating areas and to take advantage of Hawaii's location to not only provide training for local assets, but also provide capability for short notice and surge deployments from the West Coast; (2) support the acquisition and integration into the Fleet of advanced military technology and accommodate future increases in operational training tempo; and (3) maintain the long-term viability of the range complex while protecting human health and the environment.

The No Action Alternative is the continuation of training operations, RDT&E activities, ongoing base operations, and maintenance of the technical and logistical facilities that support these operations and activities, and the monitoring of marine mammals. The No Action Alternative includes the current level of training and test activities, including the biennial Rim of the Pacific exercises. Alternative 1 includes the activities described in the No Action Alternative with the addition of increased training necessary to support the Fleet Response Training Plan, Hawaii Range Complex improvements and modernizations, planned RDT&E activities, and necessary force structure changes. Alternative 2 would include all of the activities described in Alternative 1 with the addition of major events, such as supporting three carrier strike groups training at the same time, increasing the tempo of training exercises, and additional RDT&E programs at PMRF. Future RDT&E programs proposed as part of Alternative 2 would include directed energy programs involving lasers.

Key environmental issues that will be addressed in the EIS/OEIS, as applicable, include: biological resources (marine mammals and threatened and endangered species), cultural resources, environmental justice, health and safety, and noise. The DoN has been involved in long-term research plans studying the quantification of exposure of marine mammal species to acoustic emissions with differing experimental approaches and detailed observations of effects. Now that initial findings are available, this EIS/OEIS will include acoustic exposure modeling and effects-analysis for marine mammals within the defined study area.

The DoN is initiating the scoping process to identify community concerns and local issues that will be addressed in the EIS/OEIS. Federal, state, and local agencies, the public, and interested persons are encouraged to provide oral and/or written comments to the DoN to identify specific environmental issues or topics of environmental concern that the commenter believes the DoN should consider. All comments, written or provided orally at the scoping meetings, will receive the same consideration during EIS/OEIS preparation.

Written comments on the scope of the EIS/OEIS should be postmarked no later than October 13, 2006. Comments may be mailed to Mr. Tom Clements, Pacific Missile Range Facility, P.O. Box 128, Kekaha, Kauai, Hawaii 96752-0128.

Dated: August 24, 2006.
Saundra K. Melancon,
Paralegal Specialist, Alternate Federal Register Liaison Officer.

[FR Doc. E6-14324 Filed 8-28-06; 8:45 am]

BILLING CODE 3810-FF-P